DEPARTMENT OF JUSTICE

Notice of Extension to Public Comment Period for Consent Decree Under the Clean Air Act

On December 20, 2016, the Department of Justice lodged a proposed Second Partial Consent Decree with the United States District Court for the Northern District of California in the lawsuit entitled In re: Volkswagen “Clean Diesel” Marketing, Sales Practices, and Products Liability Litigation, Case No: MDL No. 2672 CRB (JSC). This Second Partial Consent Decree (“Decree”) is entered into between the United States, California, and all defendants (collectively, “Volkswagen”). The Decree partially resolves the governments' claims for injunctive relief under the Clean Air Act and various California claims (including under the California Health and Safety Code) with respect to the 3.0 Liter Subject Vehicles. The Decree provides remedies for the cars on the road and the environmental harm from the violations.

Notice of the lodging of the proposed Decree was originally published in the Federal Register on December 29, 2016. See 81 FR 96046 (Dec. 29, 2016). The publication of the original notice opened a thirty (30) day period for public comment on the Decree. The publication of the present notice extends the period for public comment on the Decree to February 14, 2017.

Comments concerning the Decree should be addressed to the Assistant Attorney General, Environment and Natural Resources Division and should refer to In re: Volkswagen “Clean Diesel” Marketing, Sales Practices, and Products Liability Litigation, Case No: MDL No. 2672 CRB (JSC), and D.J. Ref. No. 90-5-2-1-11386.

All comments must be submitted no later than February 14, 2017. Comments may be submitted either by email or by mail:

To submit comments: | Send them to:
By e-mail | pubcomment-ees.enrd@usdoj.gov.
By mail | Assistant Attorney General, U.S. DOJ—ENRD, P.O. Box 7611, Washington, DC 20044-7611

The Decree may be viewed and downloaded from http://www.cand.uscourts.gov/crb/vwmdl. During the public comment period, the Decree may also be examined and downloaded at this Justice Department Web site: https://www.justice.gov/enrd/consent-decrees. We will provide a paper copy of the Decree upon written request and payment of reproduction costs. Please mail your request and payment to: Consent Decree Library, U.S. DOJ—ENRD, P.O. Box 7611, Washington, DC 20044-7611.

For the entire Decree and its appendices, please enclose a check or money order for $40.25 (25 cents per page reproduction cost) payable to the United States Treasury. For a copy of certain portions of the Decree, please designate which portions are requested, and provide the appropriate amount of money. For the Decree without the exhibits and signature pages, the cost is $13.25 (with signature pages, $16.50). For Appendix A, the cost is $8.50. For Appendix B, the cost is $15.25. For the Mitigation Appendix, the cost is $.25.

Karen S. Dworkin,
Deputy Section Chief, Environmental Enforcement Section, Environment and Natural Resources Division.

[FR Doc. 2017-02161 Filed 2-1-17; 8:45 am]

BILLING CODE 4410-15-P